DEPARTMENT OF DEFENSE

Office of the Secretary

National Commission on the Future of the Army; Notice of Federal Advisory Committee Meeting

AGENCY: Department of Defense (DoD), Deputy Chief Management Officer.

ACTION: Notice of Federal Advisory Committee Meeting.

SUMMARY: The DoD is publishing this notice to announce two days of meetings of the National Commission on the Future of the Army (“the Commission”). The meetings will be partially closed to the public.

DATES: Date of the Closed Meetings: Monday, August 24, 2015, from 9:00 a.m. to 11:25 a.m. and Monday, August 24 2015, from 12:25 p.m. to 4:30 p.m.

Date of the Open Meeting: Tuesday, August 25, 2015, from 8:00 a.m. to 10:00 a.m.

ADDRESSES: Address of Closed Meeting, August 24, 2015 from 9:00 a.m. to 11:25 a.m.: Operations Group Conference Room, Building 990, National Training Center, Fort Irwin, CA 92310.

Address of Closed Meeting, August 24, 2015 from 12:25 p.m. to 4:30 p.m.: Operations Group Conference Room, Building 990, National Training Center, Fort Irwin, CA 92310.

Address of Open Meeting, August 25, 2015: Long Beach Marriott Conference Room, Long Beach Marriott, 4700 Airport Plaza Drive, Long Beach, CA 90815.

FOR FURTHER INFORMATION CONTACT: Mr. Don Tison, Designated Federal Officer, National Commission on the Future of the Army, 700 Army Pentagon, Room 3E406, Washington, DC 20310-0700, Email: dfo.public@ncfa.ncr.gov. Desk (703) 692-9099. Facsimile (703) 697-8242.

SUPPLEMENTARY INFORMATION: Due to circumstances beyond the control of the Designated Federal Officer and the Department of Defense, the National Commission on the Future of the Army was unable to provide public notification of its meeting of August 24-25, 2015, as required by 41 CFR 102-3.150(a). Accordingly, the Advisory Committee Management Officer for the Department of Defense, pursuant to 41 CFR 102-3.150(b), waives the 15-calendar day notification requirement. This meeting will be held under the provisions of the Federal Advisory Committee Act (FACA) of 1972 (5 U.S.C., Appendix, as amended), the Government in the Sunshine Act of 1976 (5 U.S.C. 552b, as amended), and 41 CFR 102-3.150.

Purpose of Meetings

During the closed meeting on Monday, August 24, 2015, from 9:00 a.m. to 11:25 a.m., the Commission will hear classified testimony from individual witnesses, and engage in discussion on Evaluation metrics in relation to Unit Status Reporting Data and Observations of Training and Evaluation at the National Training Center (NTC).

During the closed meeting on Monday, August 24, 2015, from 12:25 p.m. to 4:30 p.m., the Commission will hear classified testimony from individual witnesses, and engage in discussions on an Assessment of Unit Training and performance.

During the open meeting on Tuesday, August 25, 2015, from 8:00 a.m. to 10:00 a.m., the Commission will hear updates from the Subcommittee chairs, a recap of the NTC engagement from the day prior and verbal comments from the Public.

Agendas

August 24, 2015, 9:00 a.m. to 11:25 a.m.—Closed Hearing: The Commission will hear comments on Evaluation metrics in relation to Unit Status Reporting, Readiness Status of units training at Ft. Irwin in preparation for deployment, and the applicability and correlation of training scenarios at Ft. Irwin as related to OPLANs of deploying units.

Speakers include, but are not limited to: Commanding General Ft. Irwin, NTC Training and Evaluation Cadre. All presentations and resulting discussion are classified.

August 24, 2015, 12:25 p.m. to 4:30 p.m.—Closed Hearing: The Commission will hear comments on Assessment by NTC Cadre of participating units' readiness, resourcing needs for units rotating through the NTC and needs of NTC resident units and personnel to support their training and evaluation mission. Additionally, representatives from the Army National Guard rotational units will comment on Home station training preparation and results achieved.

Speakers include, but are not limited to NTC Training and Evaluation Cadre, and ARNG Senior Leaders from participating States. All presentations and resulting discussion are classified.

August 25, 2015—Open Hearing: The Commission will hear updates from subcommittee chairs and recap the previous day's NTC engagement. The public will have the opportunity to make verbal comments.

Meeting Accessibility

In accordance with applicable law, 5 U.S.C. 552b(c), and 41 CFR 102-3.155, the DoD has determined that the two meetings scheduled for Monday, August 24, 2015, between 9:00 a.m. to 4:30 p.m. will be closed to the public. Specifically, the Assistant Deputy Chief Management Officer, with the coordination of the DoD FACA Attorney, has determined in writing that these portions of the meeting will be closed to the public because they will discuss matters covered by 5 U.S.C. 552b(c)(1).

Pursuant to 41 CFR 102-3.140 through 102-3.165 and the availability of space, the meeting scheduled for August 25, 2015 from 8:00 a.m. to 10:00 a.m. at the Long Beach Marriott Conference Room is open to the public. Seating is limited and pre-registration is strongly encouraged. Media representatives are also encouraged to register. Members of the media must comply with the rules of photography and video filming published by Marriot Inc. The closest public parking facility is located on the property. Visitors will be required to present one form of photograph identification. Visitors should keep their belongings with them at all times.

Written Comments

Pursuant to section 10(a)(3) of the FACA and 41 CFR 102-3.105(j) and 102-3.140, the public or interested organizations may submit written comments to the Commission in response to the stated agenda of the open and/or closed meeting or the Commission's mission. The Designated Federal Officer (DFO) will review all submitted written statements. Written comments should be submitted to Mr. Donald Tison, DFO, via facsimile or electronic mail, the preferred modes of submission. Each page of the comment must include the author's name, title or affiliation, address, and daytime phone number. All comments received before Friday, August 21, 2015, will be provided to the Commission before the August 25, 2015, meeting. Comments received after Friday, August 21, 2015, will be provided to the Commission before its next meeting. All contact information may be found in the FOR FURTHER INFORMATION CONTACT section.

Oral Comments

In addition to written statements, one hour will be reserved for individuals or interest groups to address the Commission on August 25, 2015. Those interested in presenting oral comments to the Commission must summarize their oral statement in writing and submit with their registration. The Commission's staff will assign time to oral commenters at the meeting; no more than five minutes each for individuals. While requests to make an oral presentation to the Commission will be honored on a first come, first served basis, other opportunities for oral comments will be provided at future meetings.

Registration

Individuals and entities who wish to attend the public hearing and meeting on Tuesday, August 25, 2015 are encouraged to register for the event with the DFO using the electronic mail and facsimile contact information found in the FOR FURTHER INFORMATION CONTACT section. The communication should include the registrant's full name, title, affiliation or employer, email address, day time phone number. This information will assist the Commission in contacting individuals should it decide to do so at a later date. If applicable, include written comments and a request to speak during the oral comment session. (Oral comment requests must be accompanied by a summary of your presentation.) Registrations and written comments should be typed.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: August 13, 2015.
Aaron Siegel,
Alternate OSD Federal Register Liaison Officer, Department of Defense.

[FR Doc. 2015-20362 Filed 8-17-15; 8:45 am]

BILLING CODE 5001-06-P